Proclamation 9110 of April 30, 2014

National Building Safety Month, 2014

By the President of the United States of America

A Proclamation

America's buildings do more than house people and goods. They embody innovation; inspire creativity; and provide foundations for families, businesses, and communities. During National Building Safety Month, we celebrate the dedicated professionals who keep our buildings secure, and we recommit to maintaining resilient, energy-efficient infrastructure.

Because this is not a task for government alone, my Administration has fostered partnerships between the public and private sectors. Joining with building officials, design professionals, scientists, and engineers, we continually develop new guidance and tools for increasing disaster-resistance and meeting building standards. For additional information and resources explaining simple steps people can take to better prepare their homes or businesses for a disaster, visit www.Ready.gov.

As Americans, our spirit is strong and resilient, and our buildings should match that spirit. From our homes to our high-rises, our museums to our malls, let us work to keep structures sound and up to code. By doing so, we can conserve energy, protect the environment, and help communities withstand the impacts of natural disasters and climate change.

NOW, THEREFORE, I, BARACK OBAMA, President of the United States of America, by virtue of the authority vested in me by the Constitution and the laws of the United States, do hereby proclaim May 2014 as National Building Safety Month. I encourage citizens, government agencies, businesses, nonprofits, and other interested groups to join in activities that raise awareness about building safety. I also call on all Americans to learn more about how they can contribute to building safety at home and in their communities.

IN WITNESS WHEREOF, I have hereunto set my hand this thirtieth day of April, in the year of our Lord two thousand fourteen, and of the Independence of the United States of America the two hundred and thirty-eighth.

[FR Doc. 2014-10451

Filed 5-5-14; 8:45 am]

Billing code 3295-F4